DEPARTMENT OF AGRICULTURE

Food Safety and Inspection Service

[Docket No. 02-006N]

Pathogen Reduction: A Scientific Dialogue

AGENCY: Food Safety and Inspection Service, USDA.

ACTION: Notice of public meeting; request for comments.

SUMMARY: The Food Safety and Inspection Service (FSIS) is announcing that it will hold a two-day symposium to discuss scientific data and issues associated with pathogen reduction and HACCP. The purpose of the meeting is to stimulate thinking and generate new ideas towards enhancement of the Agency's farm-to-table approach for ensuring the safety of meat, poultry, and egg products.

The symposium will focus on analysis and discussion of microbial testing, anti-microbial interventions, performance standards, and other pathogen-reduction inspection activities. Panels chaired by members of the academic scientific community will address questions such as how pathogens enter the food chain, options for constructing statistically sound performance sampling strategies, new trends in microbiology and microbial ecology, and new technologies to remove or inactivate pathogens on carcasses. This symposium is one of a series of meetings being held to discuss new approaches for increasing food safety in an HACCP environment.

DATES: The symposium is scheduled for May 6 and 7, 2002. It will be held from 8 a.m. to 5 p.m. on both days. A tentative agenda is available in the FSIS Docket Room and on the FSIS Web site at http://fsis.usda.gov.

ADDRESSES: The meeting will be held at the Georgetown University Conference Center, 3800 Reservoir Rd., NW., Washington, DC 20057; telephone (202) 687-3200. FSIS welcomes comments on the topics to be discussed at the symposium. Please send an original and two copies of comments to the FSIS Docket Clerk, Docket #02-006N, 102 Cotton Annex, 300 12th Street, SW., Washington, DC 20250-3700. All comments and the official transcript, when it is published, will be available in the FSIS Docket Room at the above address.

FOR FURTHER INFORMATION CONTACT: Dr. Karen Hulebak, Senior Advisor for Scientific Affairs, FSIS, at (202) 720-8609 or by fax at (202) 720-9893. FSIS encourages attendees to pre-register as soon as possible by contacting Ms. Sheila Johnson of the FSIS Planning Staff at (202) 690-6498 or by e-mail to sheila.johnson@usda.gov. If a sign language interpreter or other special accommodation is necessary, contact Ms. Johnson at the above numbers.

SUPPLEMENTARY INFORMATION:

Background

FSIS administers the Federal Meat Inspection Act, the Poultry Products Inspection Act, and the Egg Products Inspection Act. The Agency's activities are intended to prevent the distribution in domestic and foreign commerce of food that is unwholesome, adulterated, or misbranded, including products that may transmit diseases or that may be otherwise injurious to health.

In recent years, the Agency has placed increased emphasis on its public health protection role. Throughout the 1990's, the Agency's most important goal was an improved food safety inspection system, exemplified by the HACCP regulations, which are now fully implemented. FSIS has sought to enhance the public health by minimizing foodborne illness from meat, poultry, and egg products. The Agency has worked toward this goal by encouraging industry to adopt measures intended to reduce pathogens on raw products. In addition to regulatory activities aimed at achieving this goal, the Agency has sought to strengthen its relationships with the scientific community and with State and Federal public health agencies, to make food safety information and training available to people at each point in the food production and marketing chain, and to promote international cooperation in food safety.

The Agency's Strategic Plan for 2000-2005 provides that FSIS will continue to focus its operations and resources on food safety and will continue to strengthen the scientific basis for its regulatory activities and initiatives.

The Symposium

At the public meeting, university scientists will chair panels and facilitate dialogue among the panelists from government and academia in discussions about HACCP and pathogen reduction activities. The meeting will focus on questions concerning the entry of pathogens into the meat and poultry food chain and the challenges that the microbial ecology of meat and poultry pathogens present for pathogen control. Additional discussion will focus on intervention strategies such as carcass decontamination and process control methods, performance standards, and microbial testing.

Additional Public Notification

FSIS has considered the potential civil rights impact of this public meeting notice on minorities, women, and persons with disabilities. FSIS anticipates that this notice will not have a negative or disproportionate impact on minorities, women, or persons with disabilities. However, Federal Register notices are designed to provide information and receive public comment on issues that may lead to new or revised Agency regulations or instructions. Public involvement in all segments of rulemaking and policy development is important. Consequently, women and persons with disabilities are aware of this notice and informed about the mechanism for providing their comment.

FSIS provides a weekly Constituent Update, which is communicated via fax to more than 300 persons and organizations. In addition, the update is available on-line through the FSIS Web page located at http://www.fsis.usda.gov. The update is used to provide information regarding FSIS policies, procedures, regulations, Federal Register notices, FSIS public meetings, recalls, and other types of information that could affect or would be of interest to our constituents and stakeholders. The constituent fax list consists of industry, trade, and farm groups; allied health professionals; scientific professionals, and other individuals who have requested to be included. Through these various channels, FSIS is able to provide information to a much broader, more diverse audience. For more information and to be added to the constituent fax list, fax your request to the Congressional and Public Affairs Office at (202) 720-5704.

Done in Washington, DC, on: April 11, 2002.
Margaret O'K. Glavin,
Acting Administrator.

[FR Doc. 02-9690 Filed 4-19-02; 8:45 am]

BILLING CODE 3410-DM-P